DEPARTMENT OF TRANSPORTATION

Federal Aviation Administration

14 CFR Part 73

[Docket No. FAA-2012-0174; Airspace Docket No. 11-AEA-3]

RIN 2120-AA66

Amendment of Restricted Areas R-5801 and R-5803; Chambersburg, PA

AGENCY: Federal Aviation Administration (FAA), DOT.

ACTION: Final rule; technical amendment.

SUMMARY: This action makes a minor editorial change to the time of designation for restricted areas R-5801 and R-5803, Chambersburg, PA, to remove the abbreviation “EST.” This amendment does not change the dimensions of, or activities conducted within, the restricted areas.

DATES: Effective date 0901 UTC, May 31, 2012.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

The time of designation for R-5801 and R-5803 currently reads “0800 to 1600 EST, Monday-Friday.” Since these restricted areas lie completely within the Eastern Time zone, it is unnecessary to specify “EST” in the descriptions. The hours 0800 to 1600 are in effect year round regardless of time of year. The use of “EST” in the current description leads to confusion about the time of designation during that part of the year when daylight saving time is in effect. The intended time of designation for the restricted areas is 0800-1600 local time during both standard time and daylight time periods.

The Rule

This action amends Title 14, Code of Federal Regulations (14 CFR) part 73 to remove “EST” from the time of designation in the descriptions of restricted areas R-5801 and R-5803, Chambersburg, PA. The time of designation is amended to read “0800 to 1600 local time, Monday-Friday.” This change does not alter the current usage of the restricted areas.

Accordingly, since this action is an administrative change, and does not alter the dimensions or utilization of the restricted areas, I find that notice and public procedures under 5 U.S.C. 553(b) are unnecessary.

Section 73.58 of Title 14 CFR part 73 was republished in FAA Order 7400.8U, effective February 16, 2012.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends airspace descriptions to keep them current.

Environmental Review

The FAA has determined that this action qualifies for categorical exclusion under the National Environmental Policy Act in accordance with FAA Order 1050.1E, Environmental Impacts: Policies and Procedures, paragraph 311d. This action updates the technical description of special use airspace that does not alter the dimensions, altitudes, or use of the airspace. It is not expected to cause any potentially significant environmental impacts, and no extraordinary circumstances exist that warrant preparation of an environmental assessment.

List of Subjects in 14 CFR Part 73

Airspace, Prohibited areas, Restricted areas.

Adoption of Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.58 [Amended]

2. Section 73.58 is amended as follows:

* * * * *

R-5801 Chambersburg, PA [Amended]

By removing the current time of designation and substituting the following:

Time of designation. 0800 to 1600 local time, Monday-Friday.

* * * * *

R-5803 Chambersburg, PA [Amended]

By removing the current time of designation and substituting the following:

Time of designation. 0800 to 1600 local time, Monday-Friday.

Issued in Washington, DC, on March 14, 2012.
Gary A. Norek,
Acting Manager, Airspace, Regulations and ATC Procedures Group.

[FR Doc. 2012-7311 Filed 3-26-12; 8:45 am]

BILLING CODE 4910-13-P